DEPARTMENT OF COMMERCE.

International Trade Administration

A-570-851

Certain Preserved Mushrooms from the People's Republic of China: Extension of Time Limit for Final Results of the 2005 Antidumping Duty New Shipper Review

AGENCY: Import Administration, International Trade Administration, Department of Commerce.

EFFECTIVE DATE: September 28, 2006.

FOR FURTHER INFORMATION CONTACT: Matthew Renkey, AD/CVD Operations, Office 9, Import Administration, International Trade Administration, U.S. Department of Commerce, 14th Street and Constitution Avenue, N.W., Washington, D.C. 20230; telephone: (202) 482-2243.

Background

On June 27, 2006, the Department of Commerce (“the Department”) issued the preliminary results of this new shipper review. See Certain Preserved Mushrooms from the People's Republic of China: Preliminary Results of the Antidumping Duty New Shipper Review, 71 FR 38617 (July 7, 2006) (“Preliminary Results”).

Extension of Time Limits for Final Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

On September 11, 2006, the Department sent questions to the respondent in this review, Guangxi Eastwing Trading Co., Ltd. (“Eastwing”), regarding surrogate value information Eastwing had placed on the record. On the same date, the Department also placed surrogate value information on the record of this review and granted interested parties an opportunity to comment on the information. As a result of the extraordinarily complicated issues raised in this review segment, including the additional time needed to evaluate Eastwing's response to our questions, as well as any potential comments on the new surrogate value information the Department placed on the record, it is not practicable to complete this new shipper review within the current time limit. Accordingly, the Department is extending the time limit for the completion of the final results by 45 days until November 9, 2006, in accordance with section 751(a)(2)(B)(iv) of the Act and 19 CFR 351.214(i)(2).

We are issuing and publishing this notice in accordance with sections 751(a)(1) and 777(i)(1) of the Act.

Dated: September 22, 2006
Stephen J. Claeys
Deputy Assistant Secretary for Import Administration

[FR Doc. E6-15974 Filed 9-27-06; 8:45 am]

BILLING CODE 3510-DR-S